ENVIRONMENTAL PROTECTION AGENCY

[ER-FRL-6680-1]

Environmental Impacts Statements; Notice of Availability

Responsible Agency: Office of Federal Activities, General Information (202) 564-7167 or http://www.epa.gov/compliance/nepa/. Weekly receipt of Environmental Impact Statements Filed 10/02/2006 through 10/06/2006. Pursuant to 40 CFR 1506.9.

EIS No. 20060406, Draft EIS, BLM, AK, Bay Resource Management Plan, Implementation, Located within the Bristol Bay and Goodnews Bay Areas, AK, Comment Period Ends: 01/11/2007, Contact: Mark Fullmer 907-267-1246

EIS No. 20060407, Final EIS, NPS, WA, Ebey's Landing National Historical Reserve General Management Plan, Implementation, Town of Coupeville, Island County, WA, Wait Period Ends: 11/16/2006, Contact: Rob Harbour 360-678-6084

EIS No. 20060408, Draft EIS, FAA, NM, Taos Regional Airport (SKX) Airport Layout Plan Improvements, Construction and Operation, Town of Taos, Taos County, NM, Comment Period Ends: 11/27/2006, Contact: Joyce M. Porter 817-222-5644.

EIS No. 20060409, Final EIS, AFS, UT, Lake Project, Proposal to Maintain Vegetative Diversity and Recover Economic Value of Dead, Dying and High Risk to Mortality Trees, Manti-La Sal National Forest, Ferron/Price Ranger District, Emery and Sanpete Counties, UT, Wait Period Ends: 11/16/2006, Contact: Diane Cote 435-636-3320.

EIS No. 20060410, Final EIS, AFS, 00, Wasatch-Cache National Forest Noxious Weed Treatment Program, Proposes to Treat Noxious Weeds 1.2 Million Acres of Wilderness and Non-Wilderness Areas, several counties, UT and Uinta County, WY, Wait Period Ends: 11/16/2006, Contact: Mike Duncan 801-236-3415.

EIS No. 20060411, Draft Supplement, COE, 00, PROGRAMMATIC—Fort Bliss Texas and New Mexico Mission and Master Plan, To Modify Current Land Use, EL Paso, TX and Dona Ana and Otero Counties, NM, Comment Period Ends: 12/12/2006 Contact: John Barrera 915-568-3908.

EIS No. 20060412, Draft EIS, FTA, MO, Branson Transit Study, Proposed Alternatives Analysis selection, Transit Improvements, City of Branson, Taney County, MO, Comment Period Ends: 11/27/2006, Contact: Joan Roeseler 816-329-3936

EIS No. 20060413, Draft EIS, FTA, FL, PROGRAMMATIC—South Florida East Coast Corridor Transit Analysis Study Tier 1, To Address Transportation Demand, Miami-Dade, Broward and Palm Beach Counties, FL, Comment Period Ends: 12/08/2006, Contact: Tony Dittmeier 404-562-3512.

EIS No. 20060414, Draft EIS, USA, CO, Pinon Canyon Maneuver Site (PCMS) Transformation Program, Implementation, Base Realignment and Closure Activities, Fort Carson, Las Animas, Otero and Huerfano Counties, CO, Comment Period Ends: 11/27/2006, Contact: Karen Wilson 703-602-2861

EIS No. 20060415, Draft EIS, USA, CO, Fort Carson Transformation Program, Implementation, Base Realignment and Closure Activities, Fort Carson, El Paso, Pueblo and Fremont Counties, CO, Comment Period Ends: 11/27/2006, Contact: Karen Wilson 703-602-2861.

EIS No. 20060416, Draft EIS, NOA, 00, Gulf of Mexico Red Snapper Total Allowable Catch and Reduce Bycatch in the Gulf of Mexico Directed and Shrimp Trawl Fisheries, To Evaluate Alternatives, Gulf of Mexico, Comment Period Ends: 11/27/2006, Contact: Roy E. Crabtree 727-824-5305

EIS No. 20060417, Final EIS, COE, NJ, NJ-92 Project, New Jersey Turnpike Authority, Transportation Improvement from East-West Highway Link connecting U.S. Route 1 in South Brunswick Township with the New Jersey Turnpike at Interchange 8A in Monroe Township, Middlesex County, NJ, Wait Period Ends: 11/16/2006, Contact: James Cannon 917-790-8412.

Dated: October 10, 2006.
Ken Mittelholtz,
Environmental Protection Specialist, Office of Federal Activities.

[FR Doc. E6-17013 Filed 10-12-06; 8:45 am]

BILLING CODE 6560-50-P